DEPARTMENT OF LABOR

Employment and Training Administration

[NAFTA-5952 and TA-W-40,976]

Abitibi Consolidated, Donohue Industries, Inc., Lufkin Division, Lufkin, TX; Notice of Revised Determination on Reconsideration

By letter dated June 21, 2002, the company, requested administrative reconsideration of the Department's denial of North American Free Trade Agreement-Transitional Adjustment Assistance (NAFTA-TAA) and Trade Adjustment Assistance (TAA), applicable to workers of Abitibi Consolidated, Donohue Industries, Inc., Lufkin Division, Lufkin, Texas. The denial notice applicable to NAFTA-05952 was signed on May 20, 2002 and the denial notice for TA-W-40,976 was signed on May 23, 2002. The notices were published in the Federal Register on June 11, 2002, for NAFTA-5952 (67 FR 40005) and for TA-W-40,976 (67 FR 40004).

The workers of Abitibi Consolidated, Donohue Industries, Inc., Lufkin Division, Lufkin, Texas engaged in activities related to the production of newsprint and specialty paper were denied NAFTA-TAA because criteria (3) and (4) of the group eligibility requirements of paragraph (a)(1) of section 250 of the Trade Act of 1974, as amended, were not met. The subject firm did not import newsprint and specialty paper from Canada or Mexico during the relevant period. There was no shift in the production of newsprint and specialty paper from the subject firm to Canada or Mexico during the relevant period.

The workers of Abitibi Consolidated, Donohue Industries, Inc., Lufkin Division, Lufkin, Texas were denied TAA because criterion (3) of the group eligibility requirements of section 222 of the Trade Act of 1974, as amended, was not met. Imports did not contribute importantly to the worker separations during the relevant period.

The petitioner states that they responded to the Department's questions on a subsidiary perspective only, rather than on a company-wide basis. Thus they did not indicate the parent company, a Canadian based newsprint manufacturer, imported newsprint products to the United States.

The Department contacted the company requesting further information concerning the allegation. The company provided additional information showing the company increased their reliance on imported Canadian newsprint paper from their parent company located in Canada. The imports from Canada replaced a meaningful portion of the subject plant's production as subject plant production was phased out during the relevant period.

Conclusion

After careful consideration of the new facts obtained on reconsideration, it is concluded that increased imports of newsprint paper, including imports from Canada, contributed importantly to the decline in production and to the total or partial separation of workers at Abitibi Consolidated, Donohue Industries, Inc., Lufkin Division, Lufkin, Texas. In accordance with the provisions of the Act, I make the following revised determination:

All workers at Abitibi Consolidated, Donohue Industries, Inc., Lufkin Division, Lufkin, Texas (NAFTA-5952), who became totally or partially separated from employment on or after February 24, 2001, through two years from the date of certification, are eligible to apply for NAFTA-TAA under section 250 of the Trade Act of 1974;” and

“All workers at Abitibi Consolidated, Donohue Industries, Inc., Lufkin Division, Lufkin, Texas (TA-W-40,976), who became totally or partially separated from employment on or after January 20, 2001, through two years from the date of certification, are eligible to apply for adjustment assistance under section 223 of the Trade Act of 1974.”

Signed at Washington, DC, this 13th day of August, 2002.
Edward A. Tomchick,
Director, Division of Trade Adjustment Assistance.

[FR Doc. 02-21094 Filed 8-19-02; 8:45 am]

BILLING CODE 4510-30-P